DEPARTMENT OF THE INTERIOR

Bureau of Ocean Energy Management

30 CFR Parts 519, 550, 551, 553, 556, 560, 580, 581, 582, and 585

[Docket No. BOEM-2015-0060; MMAA 104000]

RIN 1010-AD94

Updating Addresses and Contact Information in the Bureau of Ocean Energy Management's Regulations

AGENCY: Bureau of Ocean Energy Management (BOEM), Interior.

ACTION: Direct final rule.

SUMMARY: In this rule, BOEM amends its existing regulations by: Updating address locations; removing an outdated Web site address and correcting a form number; changing the term “Associate Director” to “Deputy Director” in the regulations; and other housekeeping changes, such as removing reference to a URL hyperlink for a Web page that no longer exists.

DATES: This rule is effective September 22, 2015.

FOR FURTHER INFORMATION CONTACT: Robert Samuels, Office of Policy, Regulation and Analysis, BOEM, 45600 Woodland Road, Sterling, VA 20166; email: robert.samuels@boem.gov.

SUPPLEMENTARY INFORMATION:

I. Rulemaking Procedure

This rule pertains solely to administrative changes. It makes no changes to the substantive legal rights, obligations, or interests of affected parties. This rule, therefore, is a “rule of agency organization, procedure or practice” and is, therefore, exempt from the notice-and-comment requirements of 5 U.S.C. 553 under 5 U.S.C. 553(b)(A).

II. Overview of the Direct Final Rule

In early 2015, many of BOEM's headquarters' offices moved from Herndon, Virginia to Sterling, Virginia. References in the 30 CFR part 550 regulations to the Herndon, Virginia location are updated in this rule to reflect the Sterling, Virginia location. This rule also updates other addresses in 30 CFR part 519. Also, the existing regulations contain references to the title “Associate Director,” which is a remnant of BOEM's predecessor agency, the Minerals Management Service. This rule changes “Associate Director” to “Deputy Director” in the current regulations. This rule also makes other housekeeping changes, such as removing reference to a URL hyperlink for a Web page that no longer exists.

III. Section-by-Section Analysis of Direct Final Rule

30 CFR Part 519 (Distribution and Disbursement of Royalties, Rentals, and Bonuses)

Section 519.410 What does this subpart contain?

Section 519.410(b) contains contact information for the Office of Natural Resources Revenue Financial Management Program Manager. The Direct Final Rule updates the address and phone number.

30 CFR Part 550 (Oil and Gas and Sulfur Operations in the Outer Continental Shelf)

Section 550.126 Electronic Payment Instructions

Section 550.126 states that all payments must be made electronically through Pay.gov. This section also states incorrectly that the Pay.gov Web site can be accessed by going to http://www.boem.gov/offshore. That Web page no longer exists and is therefore deleted. The Direct Final Rule retains the correct Pay.gov URL.

Section 550.199 Paperwork Reduction Act Statements—Information Collection

The address for BOEM's Information Collection Officer changed as a result of BOEM's move from Herndon, Virginia, to Sterling, Virginia. The Direct Final Rule updates the address in this section to 45600 Woodland Road, Sterling, VA 20166.

Section 550.1153 When must I conduct a static bottomhole pressure survey?

The current regulations refer to Form BOEM-140, Bottomhole Pressure Survey Report. The form number is actually 0140. The Direct Final Rule updates the form number to reflect this.

Section 550.1454 How may I request a hearing on the record on a Notice of Noncompliance?

Section 550.1454 describes how to request a hearing on a Notice of Noncompliance with the Hearings Divisions of the Office of Hearings and Appeals. The address provided for the Hearings Division is 801 North Quincy Street, Arlington, Virginia 22203. The address for the Hearings Division is actually 351 South West Temple, Suite 6.300, Salt Lake City, Utah 84101. The Direct Final Rule provides the correct Salt Lake City, Utah address for this section.

Section 550.1456 May I request a hearing on the record regarding the amount of a civil penalty if I did not request a hearing on the Notice of Noncompliance?

Section 550.1456 provides the Arlington, Virginia address for the Office of Hearings and Appeals' Hearings Division. The Direct Final Rule provides the correct Salt Lake City, Utah address for this section.

Section 550.1462 How may I request a hearing on the record on a Notice of Noncompliance regarding violations without a period to correct?

Section 550.1462 provides the Arlington, Virginia address for the Office of Hearings and Appeals' Hearings Division. The Direct Final Rule provides the updated Salt Lake City, Utah address for this section.

Section 550.1464 May I request a hearing on the record regarding the amount of a civil penalty if I did not request a hearing on the Notice of Noncompliance?

Section 550.1464 provides the Arlington, Virginia address for the Office of Hearings and Appeals' Hearings Division. The Direct Final Rule provides the updated Salt Lake City, Utah address for this section.

Section 550.1495 How do I demonstrate financial solvency?

Paragraph (a) of § 550.1495 describes how an audited consolidated balance sheet must be submitted to demonstrate financial solvency under part 550. The section provides contact information for BOEM's Alaska, Gulf of Mexico, and Pacific Offices, including contact information for specific individuals, the office addresses, and phone numbers. To maintain accuracy of the contact information, the Direct Final Rule updates this section to provide the general contact information for each office, including the address and phone number. It does not provide contact information for a specific individual. It provides an updated phone number for the Alaska Office, an updated phone number for the Gulf of Mexico Office, and an updated street address and phone number for the Pacific Office.

30 CFR Part 551 (Geological and Geophysical (G&G) Explorations of the Outer Continental Shelf)

Section 551.5 Applying for Permits or Filing Notices

Paragraph (d) of § 551.5 provides filing locations for BOEM offices when a permittee is applying for a permit or filing a notice. The Direct Final Rule provides an updated street address for BOEM's Alaska office and an updated street address for BOEM's Pacific Office.

Section 551.15 Authority for Information Collection

The address for BOEM's Information Collection Officer changed as a result of BOEM's move from Herndon, Virginia, to Sterling, Virginia. The Direct Final Rule updates the address in this section to 45600 Woodland Road, Sterling, VA 20166.

Section 551.7 Test Drilling Activities Under a Permit

Paragraph (d)(4) of § 551.7 states the bond must be on a form approved by BOEM's Associate Director. BOEM does not have an Associate Director. Accordingly, this section of the Direct Final Rule changes the Associate Director to Deputy Director.

30 CFR Part 553 (Oil Spill Financial Responsibility for Offshore Facilities)

Section 553.5 What is the authority for collecting Oil Spill Financial Responsibility (OSFR) information?

Paragraph (d) of § 553.5 provides contact information for BOEM's Information Collection Officer. The address for BOEM's Information Collection Officer changed as a result of BOEM's move from Herndon, Virginia, to Sterling, Virginia. The Direct Final Rule updates the address in this section to 45600 Woodland Road, Sterling, VA 20166.

30 CFR Part 556 (Leasing of Sulfur or Oil and Gas in the Outer Continental Shelf)

Section 556.0 Authority for Information Collection

Paragraph (d) provides the new Sterling, VA address for sending comments regarding any aspect of the collection of information under this part, including suggestions for reducing the burden.

Section 556.54 General Requirements for Bonds

Paragraphs (b) and (f) state that bonds must be on a form approved by BOEM's Associate Director. BOEM does not have an Associate Director. Accordingly, this section of the Direct Final Rule replaces the term Associate Director with Deputy Director.

30 CFR Part 560 (Outer Continental Shelf Oil and Gas Leasing)

Section 560.3 What is BOEM's authority to collect information?

Paragraph (b) of § 560.3 provides contact information for BOEM's Information Collection Officer. The address for BOEM's Information Collection Officer changed as a result of BOEM's move from Herndon, Virginia, to Sterling, Virginia. The Direct Final Rule updates the address in this section to 45600 Woodland Road, Sterling, VA 20166.

30 CFR Part 580 (Outer Continental Shelf Oil and Gas Leasing)

Section 580.13 Where must I send my application or notification?

Section 580.13 provides contact information for BOEM's regional offices related to applying for a permit or filing a notice. The Direct Final rule updates the addresses for BOEM's Gulf of Mexico and Pacific offices.

Section 580.80 Paperwork Reduction Act Statement—Information Collection

Paragraph (e) of § 580.80 provides contact information for BOEM's Information Collection Officer. The Direct Final Rule updates the address in this section to 45600 Woodland Road, Sterling, VA 20166.

30 CFR Part 581 (Leasing of Minerals Other Than Oil, Gas, and Sulfur in the Outer Continental Shelf)

Section 581.33 Bonds and Bonding Requirements

Paragraph (b) of § 581.33 states that all bonds to guarantee payment of the deferred portion of the high cash bonus bid furnished by the lessee must be in a form or on a form approved by BOEM's Associate Director. This section of the Direct Final Rule changes the Associate Director to Deputy Director.

30 CFR Part 582 (Operations in the Outer Continental Shelf for Minerals Other Than Oil, Gas, and Sulfur)

Section 582.40 Bonds

Paragraph (b) of § 582.40 states all bonds furnished by a lessee or operator must be in a form approved by the Associate Director for Offshore Energy and Minerals Management. The Direct Final Rule changes Associate Director for Offshore Energy and Minerals Management to appropriate BOEM official.

30 CFR Part 585 (Renewable Energy and Alternate Uses of Existing Facilities on the Outer Continental Shelf)

Section 585.110 How do I submit plans, applications, reports, or notices required by this part?

Paragraph (a) of § 585.110 states that all plans, applications, reports, or notices required by part 585 must be submitted to the Associate Director at the Herndon, Virginia address. The Direct Final Rule changes Associate Director to Deputy Director and changes the Herndon, Virginia address to the Sterling, Virginia address.

Section 585.114 Paperwork Reduction Act Statements—Information Collection

Paragraph (d) of § 585.114 provides contact information for BOEM's Information Collection Officer. The address for BOEM's Information Collection Officer changed as a result of BOEM's move from Herndon, Virginia, to Sterling, Virginia. The Direct Final Rule updates the address in this section to 45600 Woodland Road, Sterling, VA 20166.

Section 585.115 Documents Incorporated by Reference

Paragraph (d) of § 585.115 involves documents incorporated by reference. It announces that the public may inspect these documents at the Bureau of Ocean Energy Management, 45600 Woodland Road, Sterling, VA 20166, (703) 787-1605; or at the National Archives and Records Administration (NARA).

IV. Legal and Regulatory Analyses

A. Statutes

1. Data Quality Act

In developing this rule, we did not conduct or use a study, experiment, or survey requiring peer review under the Data Quality Act (Pub. L. 106-554, app. C sec. 515, 114 Stat. 2763, 2763A-153- 154).

2. National Environmental Policy Act (NEPA) of 1969

This rule does not constitute a major Federal action significantly affecting the quality of the human environment. We evaluated this rule under the criteria of the National Environmental Policy Act, 43 CFR part 46 and 516 Departmental Manual 15. This rule meets the criteria set forth in 43 CFR 46.210(i) in that this direct final rule is “. . . of an administrative, financial, legal, technical, or procedural nature . . .” This rule also meets the criteria set forth in 516 Departmental Manual 15.4(C)(1) for a “Categorical Exclusion” in that its impacts are limited to administrative, economic or technological effects. Further, we have evaluated this direct final rule to determine if it involves any of the extraordinary circumstances that would require an environmental assessment or an environmental impact statement as set forth in 43 CFR 46.215. We concluded this rule does not meet any of the criteria for extraordinary circumstances as set forth therein.

3. Paperwork Reduction Act (PRA) of 1995

This rule does not contain new information collection requirements, and a submission under the PRA is not required. Therefore, an information collection request is not being submitted to the Office of Management and Budget (OMB) for review and approval under 44 U.S.C. 3501 et seq.

4. Regulatory Flexibility Act

BOEM certifies that this rule does not have a significant economic effect on a substantial number of small entities under the Regulatory Flexibility Act (5 U.S.C. 601 et seq.). The Regulatory Flexibility Act requires agencies to analyze regulatory options that would minimize any significant impact of a rule on small entities. This rulemaking affects large and small entities through the clarification of the existing regulatory requirements in BOEM regulations.

5. Small Business Regulatory Enforcement Fairness Act

This rule is not a major rule under 5 U.S.C. 804(2), the Small Business Regulatory Enforcement Fairness Act. We anticipate no significant employment or small business effects. This rule:

a. Does not have an annual effect on the economy of $100 million or more;

b. Does not cause a major increase in costs or prices for consumers, individual industries, Federal, State, or local government agencies; or geographic regions; and

c. Does not have significant adverse effects on competition, employment, investment, productivity, innovation, or the ability of U.S.-based enterprises to compete with foreign-based enterprises.

6. Unfunded Mandates Reform Act of 1995

This rule does not impose an unfunded mandate on State, local, or tribal governments, or the private sector of more than $100 million per year. This rule does not have a significant or unique effect on State, local, or tribal governments or the private sector. This rule does not impose any Federal mandates on State, local, or tribal governments or any mandate on any part of the private sector that would involve more than $100 million a year. A statement containing the information required by the Unfunded Mandates Reform Act (2 U.S.C. 1531 et seq.) is not required.

B. Executive Orders

1. E.O. 12630—Takings Implication Assessment

This rule does not affect a taking of private property or otherwise have taking implications under E.O. 12630. This rule is not a governmental action capable of interference with constitutionally protected property rights. A takings implication assessment is not required.

2. E.O. 12866 and E.O. 13563—Regulatory Planning and Review and Improving Regulation and Regulatory Review

OMB has not reviewed this rulemaking under section 6(a)(3) of E.O. 12866. BOEM does not believe this rulemaking constitutes a “significant regulatory action” under E.O. 12866 based on the following:

a. The requirements in this rule will not have an effect of $100 million or more on the economy;

b. The rule will not adversely affect in a material way the economy, productivity, competition, jobs, the environment, public health or safety, or State, local, or tribal governments or communities;

c. This rule will not create a serious inconsistency or otherwise interfere with an action taken or planned by another agency;

d. This rule will not alter the budgetary effects of entitlements, grants, user fees, or loan programs or the rights or obligations of their recipients; and

e. This rule will not raise any novel legal or policy issues.

Executive Order (E.O) 13563 reaffirms the principles of E.O. 12866 while calling for improvements in the nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

3. E.O. 12988—Civil Justice Reform

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

4. E.O. 13132—Federalism

Under the criteria in section 1 of E.O. 13132, this rule does not have sufficient federalism implications to warrant the preparation of a federalism summary impact statement. This rule does not substantially affect the relationship between Federal and State governments. To the extent State and local governments have a role in OCS activities, this rule does not affect that role. A federalism summary impact statement is not required.

5. E.O. 13175—Consultation and Coordination With Indian Tribal Governments

The Department of the Interior strives to strengthen its government-to-government relationship with Indian tribes through a commitment to consultation with Indian tribes and recognition of their right to self-governance and tribal sovereignty. We have evaluated this rule under the Department's consultation policy and under the criteria in E.O. 13175 and have determined that it has no substantial direct effects on federally recognized Indian tribes and that consultation under the Department's tribal consultation policy is not required.

6. E.O. 13211—Effects on the Nation's Energy Supply

This rule is not a significant energy action under the definition in E.O. 13211. A Statement of Energy Effects is not required.

7. Presidential Memorandum of June 1, 1998, on Regulation Clarity

We are required by Executive Orders 12866 (section 1 (b)(12)), 12988 (section 3(b)(l)(B)), and 13563 (section l(a)), and by the Presidential Memorandum of June 1, 1998, to write all rules in plain language. This means that each rule we publish must:

a. Be logically organized;

b. Use the active voice to address readers directly;

c. Use common, everyday words and clear language rather than jargon;

d. Be divided into short sections and sentences; and

e. Use lists and tables wherever possible.

If you feel that we have not met these requirements, send us comments by one of the methods listed in the ADDRESSES section. Your comments should be as specific as possible. For example, you should tell us the numbers of the sections or paragraphs that you find unclear, which sections or sentences are too long, the sections where you feel lists or tables would be useful, etc.

List of Subjects

30 CFR Part 519

Continental shelf, Government contracts, Indians-lands, Mineral resources, Oil and gas exploration, Public lands—mineral resources, Sulfur.

30 CFR Part 550

Administrative practice and procedure, Continental shelf, Environmental impact statements, Environmental protection, Government contracts, Investigations, Oil and gas exploration, Penalties, Pipelines, Public lands, Reporting and recordkeeping requirements, Sulfur.

30 CFR Part 551

Continental shelf, Freedom of information, Oil and gas exploration, Public lands, Reporting and recordkeeping requirements, Research.

30 CFR Part 553

Continental shelf, Environmental protection, Intergovernmental relations, Oil and gas exploration, Oil pollution, Penalties, Pipelines, Public lands, Reporting and recordkeeping requirements, Surety bonds.

30 CFR Part 556

Administrative practice and procedure, Continental shelf, Environmental protection, Government contracts, Intergovernmental relations, Oil and gas exploration, Public lands, Reporting and recordkeeping requirements.

30 CFR Part 560

Continental shelf, Government contracts, Mineral royalties, Oil and gas exploration, Public lands, Reporting and recordkeeping requirements.

30 CFR Part 580

Continental shelf, Public lands, Reporting and recordkeeping requirements, Research.

30 CFR Part 581

Administrative practice and procedure, Continental shelf, Government contracts, Intergovernmental relations, Mineral royalties, Public lands, Reporting and recordkeeping requirements, Surety bonds.

30 CFR Part 582

Administrative practice and procedure, Continental shelf, Environmental protection, Government contracts, Intergovernmental relations, Mineral royalties, Penalties, Public lands, Reporting and recordkeeping requirements, Surety bonds.

30 CFR Part 585

Civil rights, Environmental protection, Incorporated by reference, Public lands, Reporting and recordkeeping requirements.

Dated: September 2, 2015.
Janice M. Schneider,
Assistant Secretary—Land and Minerals Management.

For the reasons stated in the preamble, the Bureau of Ocean Energy Management amends 30 CFR chapter V as follows:

CHAPTER V—BUREAU OF OCEAN ENERGY MANAGEMENT, DEPARTMENT OF THE INTERIOR

PART 519—DISTRIBUTION AND DISBURSEMENT OF ROYALTIES, RENTALS, AND BONUSES

1. The authority citation for part 519 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

2. In § 519.410, revise the second sentence in paragraph (b) to read as follows:

§ 519.410 What does this subpart contain?

* * * * *

(b) * * * For questions related to the revenue sharing provisions in this subpart, please contact: Program Manager, Financial Management; Office of Natural Resources Revenue; P.O. Box 25165; Denver Federal Center, Building 85; Sixth Ave and Kipling St; Denver, CO 80225-0165, or at (303) 231-3162.

PART 550—OIL AND GAS AND SULPHUR OPERATIONS IN THE OUTER CONTINENTAL SHELF

3. The authority citation for part 550 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

4. In § 550.126, revise the third sentence in the introductory paragraph to read as follows:

§ 550.126 Electronic payment instructions.

* * * The Pay.gov Web site may be accessed through Pay.gov at https://www.pay.gov/paygov/.

* * * * *

5. In § 550.199, revise paragraph (d) to read as follows:

§ 550.199 Paperwork Reduction Act statements—information collection.

* * * * *

(d) Send comments regarding any aspect of the collections of information under this part, including suggestions for reducing the burden, to the Information Collection Clearance Officer, Bureau of Ocean Energy Management, 45600 Woodland Road, Sterling, VA 20166.

* * * * *

6. In § 550.1153, revise the second sentence in paragraph (d) to read as follows:

§ 550.1153 When must I conduct a static bottomhole pressure survey?

* * * * *

(d) * * * To request a departure, you must submit a justification, along with Form BOEM-0140, Bottomhole Pressure Survey Report, showing a calculated bottomhole pressure or any measured data.

7. In § 550.1454, revise the first sentence to read as follows:

§ 550.1454 How may I request a hearing on the record on a Notice of Noncompliance?

You may request a hearing on the record on a Notice of Noncompliance by filing a request within 30 days of the date you received the Notice of Noncompliance with the Hearings Division (Departmental), Office of Hearings and Appeals, U.S. Department of the Interior, 351 South West Temple, Suite 6.300, Salt Lake City, Utah 84101. * * *

8. In § 550.1456, revise paragraph (b) to read as follows:

§ 550.1456 May I request a hearing on the record regarding the amount of a civil penalty if I did not request a hearing on the Notice of Noncompliance?

* * * * *

(b) You must file your request within 10 days after you receive the Notice of Civil Penalty with the Hearings Division (Departmental), Office of Hearings and Appeals, U.S. Department of the Interior, 351 South West Temple, Suite 6.300, Salt Lake City, Utah 84101.

9. In § 550.1462, revise the first sentence to read as follows:

§ 550.1462 How may I request a hearing on the record on a Notice of Noncompliance regarding violations without a period to correct?

You may request a hearing on the record of a Notice of Noncompliance regarding violations without a period to correct by filing a request within 30 days after you receive the Notice of Noncompliance with the Hearings Division (Departmental), Office of Hearings and Appeals, U.S. Department of the Interior, 351 South West Temple, Suite 6.300, Salt Lake City, Utah 84101. * * *

10. In § 550.1464, revise paragraph (b) to read as follows:

§ 550.1464 May I request a hearing on the record regarding the amount of a civil penalty if I did not request a hearing on the Notice of Noncompliance?

* * * * *

(b) You must file your request within 10 days after you receive Notice of Civil Penalty with the Hearings Division (Departmental), Office of Hearings and Appeals, U.S. Department of the Interior, 351 South West Temple, Suite 6.300, Salt Lake City, Utah 84101.

11. In § 550.1495, revise paragraphs (a)(1) through (3) to read as follows:

§ 550.1495 How do I demonstrate financial solvency?

(a) * * *

(1) For Alaska OCS: BOEM Alaska OCS Region, 3801 Centerpoint Drive, Suite 500, Anchorage, AK 99503, (907) 334-5200.

(2) For Gulf of Mexico and Atlantic OCS: BOEM Gulf of Mexico OCS Region, 1201 Elmwood Park Boulevard, New Orleans, LA 70123-2394, (800) 200-4853.

(3) For Pacific OCS: BOEM Pacific OCS Region, 760 Paseo Camarillo, Suite 102 (CM 102), Camarillo, CA 93010, (805) 384-6305.

* * * * *

PART 551—GEOLOGICAL AND GEOPHYSICAL (G&G) EXPLORATIONS OF THE OUTER CONTINENTAL SHELF

12. The authority citation for part 551 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

13. In § 551.5, revise paragraphs (d)(1) and (3) to read as follows:

§ 551.5 Applying for permits or filing Notices.

* * * * *

(d) * * *

(1) For the OCS off the State of Alaska—the Regional Supervisor for Resource Evaluation, Bureau of Ocean Energy Management, Alaska OCS Region, 3801 Centerpoint Drive, Suite 500, Anchorage, Alaska 99503.

* * * * *

(3) For the OCS off the coast of the States of California, Oregon, Washington, or Hawaii—the Regional Supervisor for Resource Evaluation, Bureau of Ocean Energy Management, Pacific OCS Region, 760 Paseo Camarillo, Suite 102 (CM 102), Camarillo, California 93010.

14. In § 551.7, revise paragraph (d)(4) to read as follows:

§ 551.7 Test drilling activities under a permit.

* * * * *

(d) * * *

(4) Your bond must be on a form approved by the Deputy Director.

15. In § 551.15, revise paragraph (e) to read as follows:

§ 551.15 Authority for information collection.

* * * * *

(e) Send comments regarding any aspect of the collection of information under this part, including suggestions for reducing the burden, to the Information Collection Clearance Officer, Bureau of Ocean Energy Management, 45600 Woodland Road, Sterling, VA 20166.

PART 553—OIL SPILL FINANCIAL RESPONSIBILITY FOR OFFSHORE FACILITIES

16. The authority citation for part 553 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

17. In § 553.5, revise paragraph (d) to read as follows:

§ 553.5 What is the authority for collecting Oil Spill Financial Responsibility (OSFR) information?

* * * * *

(d) Send comments regarding any aspect of the collection of information under this part, including suggestions for reducing the burden, to the Information Collection Clearance Officer, Bureau of Ocean Energy Management, 45600 Woodland Road, Sterling, VA 20166.

PART 556—LEASING OF SULPHUR OR OIL AND GAS IN THE OUTER CONTINENTAL SHELF

18. The authority citation for part 556 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

19. In § 556.0, revise paragraph (d) to read as follows:

§ 556.0 Authority for information collection.

* * * * *

(d) Send comments regarding any aspect of the collection of information under this part, including suggestions for reducing the burden, to the Information Collection Clearance Officer, Bureau of Ocean Energy Management, 45600 Woodland Road, Sterling, VA 20166.

20. In § 556.54, revise paragraphs (b) and (f) to read as follows:

§ 556.54 General requirements for bonds.

* * * * *

(b) All bonds and pledges you furnish under this part must be on a form or in a form approved by the Deputy Director. Surety bonds must be issued by a surety that the Treasury certifies as an acceptable surety on Federal bonds and that is listed in the current Treasury Circular No. 570. You may obtain a copy of the current Treasury Circular No. 570 from the Surety Bond Branch, Financial Management Service, Department of the Treasury, 3700 East-West Highway, Hyattsville, MD 20782.

* * * * *

(f) You may submit a bond to the Regional Director executed on a form approved under paragraph (b) of this section that you have reproduced or generated by use of a computer. If you do this, and if the document omits terms or conditions contained on the form approved by the Deputy Director, the bond you submit will be deemed to contain the omitted terms and conditions.

PART 560—OUTER CONTINENTAL SHELF OIL AND GAS LEASING

21. The authority citation for part 560 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

22. In § 560.3, revise paragraph (b) to read as follows:

§ 560.3 What is BOEM's authority to collect information?

* * * * *

(b) You may send comments regarding any aspect of the collection of information under this part, including suggestions for reducing the burden, to the Information Collection Clearance Officer, Bureau of Ocean Energy Management, 45600 Woodland Road, Sterling, VA 20166.

PART 580—PROSPECTING FOR MINERALS OTHER THAN OIL, GAS, AND SULPHUR ON THE OUTER CONTINENTAL SHELF

23. The authority citation for part 580 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

24. In § 580.13, revise paragraphs (b) and (c) to read as follows:

§ 580.13 Where must I send my application or notification?

* * * * *

For the OCS off the . . . | Apply to . . .
* * * * * * *
(b) Atlantic Coast, Gulf of Mexico, Puerto Rico, or U.S. territories in the Caribbean Sea | Regional Supervisor for Resource Evaluation, Bureau of Ocean Energy Management, Gulf of Mexico OCS Region, 1201 Elmwood Park Boulevard, New Orleans, LA 70123-2394.
(c) States of California, Oregon, Washington, Hawaii, or U.S. territories in the Pacific Ocean | Regional Supervisor for Resource Evaluation, Bureau of Ocean Energy Management, Pacific OCS Region, 760 Paseo Camarillo, Suite 102 (CM 102), Camarillo, CA 93010.

25. In § 580.80, revise paragraph (e) to read as follows:

§ 580.80 Paperwork Reduction Act statement—information collection.

* * * * *

(e) Send comments regarding any aspect of the collection of information under this part, including suggestions for reducing the burden, to the Information Collection Clearance Officer, Bureau of Ocean Energy Management, 45600 Woodland Road, Sterling, VA 20166.

PART 581—LEASING OF MINERALS OTHER THAN OIL, GAS, AND SULPHUR IN THE OUTER CONTINENTAL SHELF

26. The authority citation for part 581 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

27. In § 581.33, revise the first sentence in paragraph (b) to read as follows:

§ 581.33 Bonds and bonding requirements.

* * * * *

(b) All bonds to guarantee payment of the deferred portion of the high cash bonus bid furnished by the lessee must be in a form or on a form approved by the Deputy Director. * * *

* * * * *

PART 582—OPERATIONS IN THE OUTER CONTINENTAL SHELF FOR MINERALS OTHER THAN OIL, GAS, AND SULPHUR

28. The authority citation for part 582 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

29. In § 582.40, revise the first sentence in paragraph (b) to read as follows:

§ 582.40 Bonds.

* * * * *

(b) All bonds furnished by a lessee or operator must be in a form approved by the Deputy Director. * * *

* * * * *

PART 585—RENEWABLE ENERGY AND ALTERNATE USES OF EXISTING FACILITIES ON THE OUTER CONTINENTAL SHELF

30. The authority citation for part 585 is revised to read as follows:

Authority: Section 104, Public Law 97-451, 96 Stat. 2451 (30 U.S.C. 1714), Public Law 109-432, Div C, Title I, 120 Stat. 3000; 30 U.S.C. 1751; 31 U.S.C. 9701; 43 U.S.C. 1334; 33 U.S.C. 2704, 2716; E.O. 12777, as amended; 43 U.S.C. 1331 et seq., 43 U.S.C. 1337.

31. In § 585.110, revise paragraph (a) to read as follows:

§ 585.110 How do I submit plans, applications, reports, or notices required by this part?

(a) You must submit all plans, applications, reports, or notices required by this part to BOEM at the following address: Deputy Director, Bureau of Ocean Energy Management, 45600 Woodland Road, Sterling, VA 20166.

* * * * *

32. In § 585.114, revise paragraph (d) to read as follows:

§ 585.114 Paperwork Reduction Act statements—information collection.

* * * * *

(d) Comments regarding any aspect of the collections of information under this part, including suggestions for reducing the burden, should be sent to the Information Collection Clearance Officer, Bureau of Ocean Energy Management, 45600 Woodland Road, Sterling, VA 20166.

* * * * *

33. In § 585.115, revise the first sentence of paragraph (d) to read as follows:

§ 585.115 Documents incorporated by reference.

* * * * *

(d) You may inspect these documents at the Bureau of Ocean Energy Management, 45600 Woodland Road, Sterling, VA 20166, 703-787-1605; or at the National Archives and Records Administration (NARA). * * *

* * * * *

[FR Doc. 2015-23719 Filed 9-21-15; 8:45 am]

BILLING CODE 4310-MR-P